DEPARTMENT OF THE INTERIOR

Fish and Wildlife Service

Proposed Low Effect Habitat Conservation Plan for the Lytle Creek Turnout, County of San Bernardino, CA

AGENCY: Fish and Wildlife Service, Interior.

ACTION: Notice of availability.

SUMMARY: The West Valley Water District (applicant) has applied to the U.S. Fish and Wildlife Service (Service) for a 2-year incidental take permit for one covered species pursuant to section 10(a)(1)(B) of the Endangered Species Act of 1973, as amended (Act). The application addresses the potential for “take” of the endangered San Bernardino kangaroo rat (Dipodomys Merriami parvus) associated with the proposed pipeline improvement and extension project of the City of Rialto and unincorporated San Bernardino County, California. A conservation program to minimize and mitigate for the project activities would be implemented as described in the proposed Lytle Creek Turnout Low Effect Habitat Conservation Plan (proposed HCP), which would be implemented by the applicant.

We are requesting comments on the permit application and on the preliminary determination that the proposed HCP qualifies as a “Low-effect” Habitat Conservation Plan, eligible for a categorical exclusion under the National Environmental Policy Act (NEPA) of 1969, as amended. The basis for this determination is discussed in the Environmental Action Statement (EAS) and the associated Low Effect Screening Form, which are also available for public review.

DATES: Written comments should be received on or before July 9, 2007.

ADDRESSES: Comments should be addressed to the Field Supervisor, Fish and Wildlife Service, Carlsbad Fish and Wildlife Office, 6010 Hidden Valley Road, Carlsbad, California 92011. Written comments may be sent by facsimile to (760) 918-0638.

FOR FURTHER INFORMATION CONTACT: Ms. Karen Goebel, Assistant Field Supervisor, Carlsbad Fish and Wildlife Office (see ADDRESSES); telephone: (760) 431-9440.

SUPPLEMENTARY INFORMATION:

Availability of Documents

Individuals wishing copies of the application, proposed HCP, and EAS should immediately contact the Service by telephone at (760) 431-9440 or by letter to the Carlsbad Fish and Wildlife Office. Copies of the proposed HCP and EAS also are available for public inspection during regular business hours at the Carlsbad Fish and Wildlife Office (see ADDRESSES).

Background

Section 9 of the Act and its implementing Federal regulations prohibit the take of animal species listed as endangered or threatened. Take is defined under the Act as to harass, harm, pursue, hunt, shoot, wound, kill, trap, capture or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32.

The applicant is seeking a permit for take of the San Bernardino kangaroo rat during the life of the permit. This species is referred to as the “SBKR” in the proposed HCP.

The applicant proposes to replace and extend water pipeline service on 1.7 acres of land located within the Lyle Creek Wash in the City of Rialto and unincorporated San Bernardino County, California. The purposes of the project are to (1) increase water delivery capacity of untreated surface water (State Water Project Water) from the San Gabriel Valley Water District's transmission pipeline system to the West Valley Water District and Fontana Water Company by replacing two 12-inch-diameter pipelines with one 30-inch-diameter pipeline and one 36-inch-diameter pipeline, (2) install a pipeline to deliver water to a CEMEX aggregate mining operation, and (3) install an emergency overflow pipeline that will discharge into existing spreading basins for groundwater recharge. We anticipate that some SBKR may be lost within the 1.7 acres of SBKR occupied habitat. The project is within designated critical habitat for the SBKR.

The applicant proposes to minimize and mitigate the effects to the SBKR associated with the covered activities by fully implementing the HCP. The purpose of the proposed HCP's conservation program is to promote the biological conservation of the SBKR. The HCP includes measures to minimize impacts to SBKR by containing the project footprint, minimizing activities that may directly impact individual SBKR, and promoting recovery of impacted habitat. Impacts to SBKR habitat would be temporary. The applicant proposes to mitigate impacts to the SBKR through purchase of 2 acres of credit within the Cajon Creek Conservation Bank in San Bernardino County, California.

The Proposed Action consists of the issuance of an incidental take permit and implementation of the proposed HCP, which includes measures to minimize and mitigate impacts of the project on the SBKR. Three alternatives to the taking of the listed species under the Proposed Action are considered in the proposed HCP. Under the No Action Alternative, no permit would be issued, and no construction or conservation would occur. Under the Reduce Project Alternative, impacts to SBKR and SBKR habitat would be reduced; however, the pipelines would not properly convey water to the final destinations. Under the Different Location Alternative, the pipelines would be relocated to avoid or reduce impacts to SBKR. This Alternative was not chosen because the project vicinity is generally occupied by SBKR and the cost of acquiring appropriate rights-of-way and constructing the larger project that would be necessary to reduce impacts to SBKR would be prohibitive.

The Service has made a preliminary determination that approval of the proposed HCP qualifies as a categorical exclusion under NEPA, as provided by the Department of the Interior Manual (516 DM 2 Appendix 1 and 516 DM 6 Appendix 1) and as a “low-effect” plan as defined by the Habitat Conservation Planning Handbook (November 1996). Determination of Low-effect Habitat Conservation Plans is based on the following three criteria: (1) Implementation of the proposed HCP would result in minor or negligible effects on federally listed, proposed, and candidate species and their habitats; (2) Implementation of the proposed HCP would result in minor or negligible effects on other environmental values or resources; and (3) Impacts of the proposed HCP, considered together with the impacts of other past, present and reasonably foreseeable similarly situated projects, would not result, over time, in cumulative effects to environmental values or resources which would be considered significant.

Based upon this preliminary determination, we do not intend to prepare further NEPA documentation. We will consider public comments in making the final determination on whether to prepare such additional documentation.

Before including your address, phone number, e-mail address, or other personal identifying information in your comment, you should be aware that your entire comment—including your personal identifying information—may be made publicly available at any time. While you can ask us in your comment to withhold your personal identifying information from public review, we cannot guarantee that we will be able to do so.

This notice is provided pursuant to section 10(c) of the Act. We will evaluate the permit application, the proposed HCP, and comments submitted thereon to determine whether the application meets the requirements of section 10(a) of the Act. If the requirements are met, we will issue a permit to the West Valley Water District for the incidental take of the San Bernardino kangaroo rat from water pipeline improvements in the City of Rialto and unincorporated San Bernardino County, California.

Dated: June 1, 2007.
Jim A. Bartel,
Field Supervisor, Carlsbad Fish and Wildlife Office, Carlsbad, California.

[FR Doc. E7-10976 Filed 6-6-07; 8:45 am]

BILLING CODE 4310-55-P